INTERNATIONAL TRADE COMMISSION

[Inv. No. 332-528]

Used Electronic Products: An Examination of U.S. Exports; Proposed Information Collection; Comment Request; Used Electronic Products Questionnaire

AGENCY: United States International Trade Commission.

ACTION: In accordance with the provisions of the Paperwork Reduction Act of 1995 (44 U.S.C. chapter 35), the U.S. International Trade Commission (Commission) will submit a request for approval of a questionnaire to the Office of Management and Budget for review.

DATES: To ensure consideration, written comments must be submitted on or before June 1, 2012.

ADDRESSES: Direct all written comments to Laura Bloodgood, Project Leader, U.S. International Trade Commission, 500 E Street SW., Washington, DC 20436 (or via email at laura.bloodgood@usitc.gov).

Additional Information: Copies of the questionnaire and supporting investigation documents may be obtained from project leader Laura Bloodgood (laura.bloodgood@usitc.gov or 202-708-4726) or deputy project leader Andrea Boron (andrea.boron@usitc.gov or 202-205-3433). Supporting documents may also be downloaded from the Commission Web site at http://www.usitc.gov/research_and_analysis/What_We_Are_Working_On.htm.

Purpose of Information Collection: The form is for use by the Commission in connection with Investigation No. 332-528, Used Electronic Products: An Examination of U.S. Exports, instituted under the authority of section 332(g) of the Tariff Act of 1930 (19 U.S.C. 1332(g)). This investigation was requested by the United States Trade Representative (USTR). The Commission expects to deliver the results of its investigation to the USTR by February 10, 2013.

Summary of Proposal

(1) Number of forms submitted: 1.

(2) Title of form: Used Electronic Products Questionnaire.

(3) Type of request: New.

(4) Frequency of use: Industry questionnaire, single data gathering, scheduled for 2012.

(5) Description of respondents: U.S. firms acquiring, refurbishing, repairing, reselling, recycling, and/or exporting used electronic products in 2011.

(6) Estimated number of respondents: 5,000.

(7) Estimated total number of hours to complete the form per respondent: 2.5 hours.

(8) Information obtained from the form that qualifies as confidential business information will be so treated by the Commission and not disclosed in a manner that would reveal the individual operations of a firm.

SUPPLEMENTARY INFORMATION:

I. Abstract

The U.S. Trade Representative has directed the Commission to prepare a report that (1) provides estimates and details of U.S. exports of used electronic products, and the share of exports compared to all used electronic products sold or processed in the United States, (2) describes U.S. companies that export used electronic products, and (3) describes the foreign enterprises that import used electronic products from the United States. The Commission will base its report on a review of available data and other information, including the collection of primary data through a survey of enterprises engaged in the processing of used electronic products.

The report will cover 2011 annual data, and to the extent practicable will estimate and describe the following:

a. The type, volume, and value of, and foreign markets of significance for, exports of used electronic products from the United States;

b. The forms and activities, with respect to used electronic products, of enterprises receiving U.S. exporters' shipments, most common end uses of exports in the foreign market (i.e., further processing, final disposal, etc.), and the extent of cross-border, intra-firm shipments by U.S. exporters;

c. The characteristics of used electronic products exported from the United States, including product condition (e.g., working, non-working, remanufacturable, refurbishable, repairable), composition of shipments (single product type, multiple product types), and the extent to which exports are processed (broken down or stripped), or remain intact prior to exportation;

d. The forms, activities and characteristics of domestic exporting enterprises (e.g., original equipment manufacturers, remanufacturers, refurbishers, brokers, recyclers, nonprofits, etc.) including the extent to which the exporter is foreign-invested;

e. The relative share of sales by U.S. companies of used electronic products that are (1) Exported, (2) sold to firms in the United States, (3) processed by the exporter itself, and (4) disposed of by the exporter itself; and

f. The factors affecting trade in used electronic products.

II. Method of Collection

Respondents will be mailed a letter directing them to download and fill out a form-fillable PDF questionnaire. Once complete, respondents may submit it by uploading it to a secure webserver, emailing it to the study team, faxing it, or mailing a hard copy to the Commission.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC Web site at http://www.usitc.gov/332528comments.

Comments submitted in response to this notice will be summarized and/or included in the request for OMB approval of this information collection; they will also become a matter of public record.

Issued: March 30, 2012.
By order of the Commission.
James R. Holbein,
Secretary.

[FR Doc. 2012-8044 Filed 4-3-12; 8:45 am]

BILLING CODE 7020-02-P